DEPARTMENT OF AGRICULTURE

Office of the Secretary

7 CFR Parts 1220 and 1260

Withdrawal of Certain Proposed Rules and Other Proposed Actions; Correction

AGENCY: Office of the Secretary, USDA.

ACTION: Withdrawal of proposed rules; Correction.

SUMMARY: This document contains a correction to the withdrawal published on January 4, 2018, titled, Withdrawal of Certain Proposed Rules and Other Proposed Actions. The document incorrectly stated that the proposed rule published on July 15, 2016, under the title Soybean Promotion, Research, and Consumer Information; Beef Promotion and Research; Amendments To Allow Redirection of State Assessments to the National Program; Technical Amendments (Soybean Promotion) is not considered a candidate for final action at this time. This document corrects that statement and makes it known that this rulemaking remains under review.

DATES: The proposed rule published on January 4, 2018 is corrected as of January 19, 2018.

FOR FURTHER INFORMATION CONTACT: Michael Poe, Telephone Number: (202) 720-3323. Email Michael.Poe@OBPA.USDA.gov.

SUPPLEMENTARY INFORMATION:

Background

The Soybean Promotion proposed rule published on July 15, 2016, is among a class of research and promotion orders for which the Office of Management and Budget (OMB) has waived review under Executive Order 12866. As a matter of practice, the Department of Agriculture (USDA) does not create or assign Regulatory Identification Numbers (RIN) for documents that are not reviewed by OMB. In the present case, the Agricultural Marketing Service (AMS) incorrectly created RIN 0581-AD49 for the Soybean Promotion rule on May 26, 2016 and corrected the mistake by withdrawing the RIN on June 23, 2017. RIN 0581-AD49 was listed in the July 15, 2016 publication of the Soybean Promotion rule. Additionally, AMS incorrectly created a second RIN for the same Soybean Promotion rule on March 17, 2017 and corrected this subsequent mistake by withdrawing that RIN on August 31, 2017. The second RIN 0581-AD63 was listed in the January 4, 2018 document. The withdrawals of RIN 0581-AD49 and RIN 0581-AD63 removed the incorrectly created numbers from the Regulatory Information Service Center and Office of Information and Regulatory Affairs Consolidated Information System, but did not affect the underlying rulemaking.

As stated above, the January 4, 2017 document incorrectly stated that the Soybean Promotion rule is not considered a candidate for final action at this time. This document corrects that statement and makes it known that AMS continues to review the proposed rule and the comments.

Dated: January 11, 2018.
Rebeckah Adcock,
Regulatory Reform Officer and Senior Advisor to the Secretary, Office of the Secretary.

[FR Doc. 2018-00893 Filed 1-18-18; 8:45 am]

BILLING CODE 3410-90-P